DEPARTMENT OF HEALTH AND HUMAN SERVICES

42 CFR Part 5

Negotiated Rulemaking Committee on Designation of Medically Underserved Populations (MUPs) and Health Professional Shortage Areas (HPSAs)

AGENCY: Health Resources and Services Administration, Department of Health and Human Services.

ACTION: Notice of meeting.

SUMMARY: The Negotiated Rulemaking (NR) Committee on Designation of Medically Underserved Populations and Health Professional Shortage Areas establishes criteria and a comprehensive methodology for designation of Medically Underserved Populations (MUPs) and Primary Care Health Professional Shortage Areas (HPSAs).

DATES: August 16, 2011, 1 p.m.-5 p.m.; August 17, 2011, 1 p.m.-5 p.m.

FOR FURTHER INFORMATION CONTACT: For more information, please contact Emily Cumberland, Office of Policy Coordination, Bureau of Health Professions, Health Resources and Services Administration, Room 9-49, Parklawn Building, 5600 Fishers Lane, Rockville, Maryland 20857, Telephone (301) 443-4662, E-mail: ecumberland@hrsa.gov. Information can also be found at the following Web site: http://www.hrsa.gov/advisorycommittees/shortage/.

SUPPLEMENTARY INFORMATION: In accordance with section 10(a)(2) of the Federal Advisory Committee Act (Pub. L. 92-463), notice is hereby given of the following meeting:

Name: Negotiated Rulemaking Committee on Designation of Medically Underserved Populations (MUPs) and Health Professional Shortage Areas (HPSAs).

Dates and Times: August 16, 2011, 1 p.m.-5 p.m.; August 17, 2011, 1 p.m.-5 p.m.

Place: Webinar format.

Status: The meeting will be open to the public.

Purpose: The purpose of the Negotiated Rulemaking Committee on Designation of Medically Underserved Populations and Health Professional Shortage Areas is to establish criteria and a comprehensive methodology for designation of Medically Underserved Populations (MUPs) and Primary Care Health Professional Shortage Areas (HPSAs), using the NR process. It is hoped that use of the NR process will yield a consensus among technical experts and stakeholders on a new rule for designation of MUPs and Primary Care HPSAs, which would be published as an Interim Final Rule in accordance with Section 5602 of the Affordable Care Act, Public Law 111-148.

Agenda: The meeting will include a discussion of various components of a possible methodology for identifying areas of shortage and underservice, based on the recommendations of the Committee in the previous meeting. The agenda will be available on the Committee's Web site (http://www.hrsa.gov/advisorycommittees/shortage/) one day prior to the meeting. Agenda items are subject to change as priorities dictate.

For members of the public interested in participating in the webinar, please contact Emily Cumberland by e-mail at ecumberland@hrsa.gov. Requests to attend can be made up to two days prior to the meeting. Participants will receive an e-mail response containing the link to the webinar. Requests to provide written comments should be sent to Emily Cumberland by e-mail at least 10 days prior to the first day of the meeting, August 16. Members of the public will have the opportunity to provide written comments before and after the meeting.

The Committee is working under tight timeframes to meet the reporting requirement in the Affordable Care Act. Due to the complexity of the issue, the Committee has been granted additional time to meet its final report deadline. As a result, meetings were added to the Committee schedule. The logistical challenges of expanding the meeting schedule hindered an earlier publication of this meeting notice.

Dated: July 19, 2011.
Reva Harris,
Acting Director, Division of Policy and Information Coordination.

[FR Doc. 2011-18594 Filed 7-21-11; 8:45 am]

BILLING CODE 4165-15-P